DEPARTMENT OF HEALTH AND HUMAN SERVICES

Administration for Children and Families

Proposed Information Collection Activity; Comment Request

Proposed Projects

Title: Request for Certification for Adult Victims of Human Trafficking.

OMB No.: 0970-0454.

Description: The Trafficking Victims Protection Act, Public Law 106-386 (TVPA) requires the Department of Health and Human Services (HHS) to certify adult alien (“foreign”) victims of severe forms of trafficking in persons (“human trafficking”) who are willing to assist law enforcement in the investigation and prosecution of human trafficking, unless unable to cooperate due to physical or psychological trauma, and who have either made a bona fide application for T nonimmigrant status that has not been denied or been granted Continued Presence (CP) from the U.S. Department of Homeland Security (DHS). The Office on Trafficking in Persons (OTIP) within the HHS Administration for Children and Families issues HHS Certification Letters that grant adult foreign victims of human trafficking eligibility for federal and state benefits and services to the same extent as refugees.

In general, OTIP initiates the certification process when it receives a notice from DHS that DHS has granted a foreign victim of trafficking CP or T nonimmigrant status, or has determined an application for T nonimmigrant status is bona fide. To issue HHS Certification Letters, it is necessary for OTIP to collect information from a victim, or a victim's representative, such as an attorney, case manager, or law enforcement victim specialist, including an address to send the HHS Certification Letter.

OTIP will ask if the victim is in need of a case management services and the current location (city, state) of the victim, and refer the victim to an appropriate service provider in his or her area, if requested. OTIP will also ask about the victim's primary language and urgent concerns, such as medical care or housing, and transmit this information to the service provider with the victim's consent.

Finally, OTIP collects information, such as the victim's sex and the type of human trafficking the victim experienced, to provide to Congress in an annual report on U.S. Government activities to combat trafficking that is prepared by the U.S. Department of Justice. Congress requires HHS and other appropriate Federal agencies to report, at a minimum, information on the number of persons who received benefits or other services under subsections (b) and (f) of section 7105 of Title 22 of the U.S. Code in connection with programs or activities funded or administered by HHS. HHS includes in these annual reports additional aggregate information that it collects about the victims when assisting each victim to obtain certification or eligibility.

Previously, OTIP collected HHS Certification information via email. However, as email is not a secure means of transfer, OTIP developed the form to facilitate the submission of consistent information and improve program reporting. The provider will fill out the form, and return the form via password protected email or encryption. OTIP will store this information and any other details regarding the victim's case in OTIP's secure database. Other details maintained in the victim's file may include OTIP staff actions, referrals, and notes regarding the victim's interest in receiving services. Maintaining victim records within OTIP's database will ensure efficient service delivery for victims, allow OTIP staff to track victims' progress toward certification, verify their eligibility for benefits, and organize information for reporting aggregate data to Congress.

Respondents: Nongovernmental entities providing social or legal services, or victim/survivors of trafficking may use this form to submit a request for certification. The use of this form is optional; the victim or his/her representative has the option to make a request for certification via telephone.

Annual Burden Estimates
Instrument | Number of respondents | Number of responses per respondent | Average burden hours per response | Total burden hours
Trafficking Victims Tracking System form | 800 | 1 | .25 | 200

Estimated Total Annual Burden Hours: 200.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 33 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-18760 Filed 8-28-18; 8:45 am]

BILLING CODE 4184-47-P